FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A Copy of the agreement is available through the Commission's Web site (www.fmc.gov) or by contacting the Office of Agreements at (202)-523-5793 or tradeanalysis@fmc.gov.

Agreement No.: 011550-013.

Title: ABC Discussion Agreement.

Parties: Hamburg Sud; King Ocean Services Limited; Seafreight Line, Ltd.

Filing Party: Wayne R. Rohde, Esq.; Cozen O'Connor; 1627 I Street, NW., Suite 1100; Washington, DC 20006-4007.

Synopsis: The amendment would add Seaboard Marine Ltd. as a party to the agreement.

By Order of the Federal Maritime Commission.
Dated: February 15, 2013.
Rachel E. Dickon,
Assistant Secretary.

[FR Doc. 2013-03986 Filed 2-20-13; 8:45 am]

BILLING CODE P